DEPARTMENT OF HOMELAND SECURITY

Federal Emergency Management Agency

[Docket ID FEMA-2025-0002; Internal Agency Docket No. FEMA-B-2556]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before December 31, 2025.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2556, to David Bascom, Acting Director, Engineering and Modeling Division, Risk Analysis, Planning & Information Directorate, FEMA, 400 C Street SW, Washington, DC 20472, or (email) david.bascom@fema.dhs.gov.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Jeffrey Jackson,
Deputy Assistant Administrator, Federal Insurance Directorate, Resilience, Federal Emergency Management Agency, Department of Homeland Security.

Community | Community map repository address
Alexander County, North Carolina and Incorporated Areas
Project: 12-04-8615S Preliminary Date: September 29, 2023
Unincorporated Areas of Alexander County | Alexander County Services Center, 151 West Main Avenue, Suite 7, Taylorsville, NC 28681.
Avery County, North Carolina and Incorporated Areas
Project: 12-04-8615S Preliminary Date: September 29, 2023
Town of Crossnore | Town Hall, 1 Fountain Circle, Crossnore, NC 28616.
Unincorporated Areas of Avery County | Avery County Administration Building, 175 Linville Street, Newland, NC 28657.
Village of Grandfather Village | Grandfather Village Administration Office, 2120 NC Highway 105, Linville, NC 28646.
Burke County, North Carolina and Incorporated Areas
Project: 12-04-8615S Preliminary Date: September 29, 2023
City of Morganton | City Hall, Development and Design Services, 305 East Union Street, Suite A100, 2nd Floor, Morganton, NC 28655.
Town of Drexel | Town Hall, 202 Church Street, Drexel, NC 28619.
Town of Glen Alpine | Glen Alpine Town Hall, 103 Pitts Street, Morganton, NC 28655.
Town of Hildebran | Town Hall, 109 South Center Street, Hildebran, NC 28637.
Town of Valdese | Town Hall, 102 Massel Avenue Southwest, Valdese, NC 28690.
Unincorporated Areas of Burke County | Burke County Planning and Zoning Department, 110 North Green Street, Morganton, NC 28655.
Caldwell County, North Carolina and Incorporated Areas
Project: 12-04-8615S Preliminary Date: September 29, 2023
City of Lenoir | City Hall, Planning Department, 801 West Avenue Northwest, 3rd Floor, Lenoir, NC 28645.
Town of Cajah's Mountain | Cajah's Mountain Town Hall, 1800 Connelly Springs Road, Lenoir, NC 28645.
Town of Gamewell | Gamewell Town Hall, 2754 Old Morganton Road, Lenoir, NC 28645.
Town of Granite Falls | Town Office, 30 Park Square, Granite Falls, NC 28630.
Town of Hudson | Town Hall, 550 Central Street, Hudson, NC 28638.
Unincorporated Areas of Caldwell County | Caldwell County Planning and Development, 2345 Morganton Boulevard Southwest, Lenoir, NC 28645.
Village of Cedar Rock | Village of Cedar Rock Office, 2065 Cedar Rock Estate Drive, Lenoir, NC 28645.
Catawba County, North Carolina and Incorporated Areas
Project: 12-04-8615S Preliminary Date: September 29, 2023
City of Claremont | City Hall, 3288 East Main Street, Claremont, NC 28610.
City of Conover | City Hall, 1011st Street East, Conover, NC 28613.
City of Hickory | Planning and Development Department, 76 North Center Street, 2nd Floor, Hickory, NC 28601.
City of Newton | Planning Department, 401 North Main Avenue, Newton, NC 28658.
Town of Brookford | Brookford Town Hall, 1700 South Center Street, Hickory, NC 28602.
Town of Catawba | Town Hall, 102 1st Street Northwest, Catawba, NC 28609.
Town of Long View | Town Government Center, 2404 1st Avenue Southwest, Long View, NC 28602.
Town of Maiden | Planning Department, 19 North Main Avenue, Maiden, NC 28650.
Unincorporated Areas of Catawba County | Catawba County Planning and Zoning Department, 25 Government Drive, Newton, NC 28658.
Cleveland County, North Carolina and Incorporated Areas
Project: 12-04-8615S Preliminary Date: September 29, 2023
City of Kings Mountain | Planning Department, 101 West Gold Street, Kings Mountain, NC 28086.
Gaston County, North Carolina and Incorporated Areas
Project: 12-04-8615S Preliminary Date: September 29, 2023 and July 31, 2024
City of Belmont | Planning and Zoning Department, 1401 East Catawba Street, Belmont, NC 28012.
City of Bessemer City | City Hall, 132 West Virginia Avenue, Bessemer City, NC 28016.
City of Cherryville | City Hall, 116 South Mountain Street, Cherryville, NC 28021.
City of Gastonia | Engineering and Land Development, Garland Municipal Business Center, 150 South York Street, Gastonia, NC 28052.
City of High Shoals | City Hall, 101 Thompkins Street, High Shoals, NC 28077.
City of Lowell | City Hall, 101 West 1st Street, Lowell, NC 28098.
City of Mount Holly | City Hall, 400 East Central Avenue, Mount Holly, NC 28120.
Town of Cramerton | Town Hall, 155 North Main Street, Cramerton, NC 28032.
Town of Dallas | Administrative Office, 210 North Holland Street, Dallas, NC 28034.
Town of McAdenville | Town Hall, 163 Main Street, McAdenville, NC 28101.
Town of Ranlo | Town of Ranlo, 1825 Spencer Mountain Road, Gastonia, NC 28054.
Town of Spencer Mountain | Gaston County Administration Building, 128 West Main Avenue, Gastonia, NC 28052.
Town of Stanley | Town Hall, 416 Highway 27 South, Stanley, NC 28164.
Unincorporated Areas of Gaston County | Gaston County Administration Building, 128 West Main Avenue, Gastonia, NC 28052.
Iredell County, North Carolina and Incorporated Areas
Project: 13-04-6162S Preliminary Date: September 29, 2023
City of Statesville | City Hall, 227 South Center Street, Statesville, NC 28677.
Town of Mooresville | Planning and Community Development Department, 750 West Iredell Avenue, Mooresville, NC 28115.
Town of Troutman | Town Hall, 400 North Eastway Drive, Troutman, NC 28166.
Unincorporated Areas of Iredell County | Iredell County Planning and Development Department, 349 North Center Street, Statesville, NC 28677.
Lincoln County, North Carolina and Incorporated Areas
Project: 12-04-8615S Preliminary Date: September 29, 2023
City of Lincolnton | City Hall, Planning Department, 114 West Sycamore Street, 2nd Floor, Lincolnton, NC 28092.
Unincorporated Areas of Lincoln County | Lincoln County Planning and Inspections Department, 115 West Main Street, 3rd Floor, Lincolnton, NC 28092.
McDowell County, North Carolina and Incorporated Areas
Project: 12-04-8615S Preliminary Date: September 29, 2023
City of Marion | City Hall, 194 North Main Street, Marion, NC 28752.
Town of Old Fort | Town Hall, 38 South Catawba Avenue, Old Fort, NC 28762.
Unincorporated Areas of McDowell County | McDowell County Services Building, 60 East Court Street, Marion, NC 28752.
Mecklenburg County, North Carolina and Incorporated Areas
Project: 12-04-8615S Preliminary Date: September 29, 2023
Town of Cornelius | Town Hall, 21445 Catawba Avenue, Cornelius, NC 28031.
Town of Davidson | Town Hall, 251 South Street, Davidson, NC 28036.
Town of Huntersville | Town Center, Planning Department, 105 Gilead Road, 3rd Floor, Huntersville, NC 28078.

[FR Doc. 2025-19213 Filed 10-1-25; 8:45 am]

BILLING CODE 9110-12-P